DEPARTMENT OF HEALTH AND HUMAN SERVICES

Administration on Aging

Agency Information Collection Activities: Submission for Office of Management and Budget (OMB) Review; Comment Request; Extension and Revision of a Currently Approved Information Collection

AGENCY: Administration on Aging, HHS.

ACTION: Notice of revision and request for comments.

SUMMARY: The Administration on Aging is announcing an opportunity for public comment on the proposed request for an extension and revision to the currently approved information collection, as required by the Paperwork Reduction Act of 1995. This notice solicits comments on the requirements relating to the submission, by AoA grantees, of semiannual financial reports on all Title III grants. The information contained in the OMB 269 and its supplemental forms are reports currently being collected concurrently.

SUPPLEMENTARY INFORMATION: Title: Supplemental Form to the Financial Status Report for all AoA Title III Grantees OMB control number 0985-0004.

Description: Supplemental form to the Financial Status Report provide an understanding of how projects funds by the Older American Act are being administered by grantees, in conformance with legislative requirements, pertinent federal regulations, and other applicable instructions and guidelines issues by the Administration on Aging (AoA). This information will be used for federal oversight of Title III Projects.

Respondents: State Agencies on Aging.

Number of Respondents: 56.

Average Number of Responses per Respondent: 2.

Average Burden Hours: 1 hour per State Agency.

To request more information concerning the revised Supplemental Form to the Financial Status Report (269) or to obtain a copy, please call Margaret A. Tolson on (202) 401-0838. Written comments and recommendations for the proposed information collection should be sent directly to the following address: Administration on Aging, Wilbur J. Cohen Federal Building, 330 Independence Avenue, SW, Room 4254, Washington, DC 20201 Attn: Margaret A. Tolson. Written comments should be received within 60 days of this notice.

Jeanette C. Takamura,
Assistant Secretary for Aging.

The Administration on Aging (AoA) Additional Instructions for Completing Financial Status Report and Supplemental Form to SF-269

General Instructions

(1) All amounts reported should be rounded off to the nearest dollar; no cents should be reported.

(2) Leave blank items 10.c and 10.g since the Deductive and the Matching or Cost Sharing alternatives are not allowed.

(3) The amount reported in item 10.e should represent non-State, subrecipient contributions (i.e. those non-Federal resources contributed by AAA's, nutrition and service providers, etc.).

(4) The amount reported in item 10.h should represent those outlays made from State resources.

(5) Item 10.k should include the total Federal and State share of unliquidated obligations. These would include State funds awarded to AAA's, etc. which have not been earned/expended.

(6) Item 10.l, the State's share from 10.k above.

(7) Please note that program income used in accordance with the Additional Alternative (Item 10.r) is a CUMULATIVE AMOUNT and should not be included in the total outlays on line 10.a.

Since the current form does not have multiple columns for reporting more than one program function, State Agencies are required to break down the following items on the Supplemental Form to the SF 269.

Item 10.i Total recipient share of outlays.

Sections 304 and 308 of the Older Americans Act and Section 1321.47 of the Title III regulations require a match of 25 percent for State and Area Plan Administration and 15 percent for all services. Breakdown Item 10.i, Column III, to identify the total non-Federal amount expended for State and Area Plan Administration.

Item 10.o Total Federal funds authorized for this funding period.

The break down of Item 10.o should be the State's allocation of Federal funds for the following five (5) program functions:

1. State Administration/Administrative Activities.

Sections 308 (a)(1) and (b)(2) provide the authority for States to expend the greatest of 5% of their total allotment or $500,000 for this function. Provide the total amount of Title III funds used for State Administration. This total must be broken down further to identify the amount of funds utilized from each program allotment.

2. Part B, Supportive Services, Part C1, Congregate Meals and Part C2, Home Delivered Meals.

Sections 308(b)(4) and (5) provide the authority for States to transfer between Subparts C1 and C2 and between Parts B and C. Provide the amount utilized by the State after transfers for each of the three program allotments.

3. Long-Term Care Ombudsman.

Sections 304(d)(1)(B) and 307(a)(9) provides the authority to utilize Part B funds for Long-Term Care Ombudsman services. Provide the amount of Fiscal Year 2000, Title III-B funds utilized by the State for costs incurred by the State Agency in support of the Statewide Long-Term Care Ombudsman program. This amount should be excluded from Part B amount in item 2 above.

4. Part D, Disease Prevention and Health Promotion Services.

Section 303(d) authorizes funds for grants under Part D. Provide the amount of Title III funds utilized for preventive health services.

5. Part E, National Family Caregiver Support Program.

Sections 303(e)(1) and (2) authorizes funds for grants under Part E. Provide the amount of Title III funds utilized for caregiver services. Also provide statewide expenditures by service categories.

6. Area Plan Administration.

Sections 304(d)(1)(A) and 308(a)(3) provide the authority for States to utilize a maximum of 10% of their total allotment for Area Plan Administration. This total must be broken down further to identify amount of funds utilized from each program allotment.

FINANCIAL STATUS REPORT

AOA SUPPLEMENTAL FORM TO SF-269—TITLE III

STATE

DATE SUBMITTED

FY

REPORTING PERIOD ENDED

Item 10i Column III, Total Recipient Share of Outlays which consist of outlays from:

| State | AAAs
ADMIN | $__________ | $__________
Title III
Part B | $__________ | $__________
LTCO (Part B) | $__________ | $__________
Part C-1 | $__________ | $__________
Part C-2 | $__________ | $__________
Part D | $__________ | $__________
Part E | $__________ | $__________
TOTAL | $__________ | $__________

Item 10j-Column III, Federal Share of Net Outlays:

| State | AAAs
ADMIN | $__________ | $__________
Title III
Part B | $__________ | $__________
LTCO (Part B) | $__________ | $__________
Part C-1 | $__________ | $__________
Part C-2 | $__________ | $__________
Part D | $__________ | $__________
Part E | $__________ | $__________
TOTAL | $__________ | $__________

Item 10o Column III Total Federal Funds Authorized by AOA for the Federal FY______ have been allocated by the State as follows (as applicable):

1. State administrative activities which consists of funds in the amount of $______ from the following:
Part B | $__________ |
Part C-1 | $__________ |
Part C-2 | $__________ |
Part D | $__________ |
Part E | $__________ |
2. Part B, Supportive Services | $__________ |
3. Part B, Long Term Care Ombudsman | $__________ | FY 2000 $_____
4. Part C-1, Congregate Meals | $__________ |
5. Part C-2, Home Delivered Meals | $__________ |
6. Part D, Preventive Health | $__________ |
7. Part E, Caregivers | $__________ |
Area Plan Administration which consists of funds from:
Part B | $__________ |
Part C-1 | $__________ |
Part C-2 | $__________ |
Part E | $__________ |
Item 10p Column III, Unobligated Funds:
Part B | $__________ | Part D $_____
Part C-1 | $__________ | Part E $_____
Part C-2 | $__________ |
Item 10r Column III, Disbursed Program Income using the additional alternative (cumulative amount):
Part B | $__________ | Part D $_____
Part C-1 | $__________ | Part E $_____
Part C-2 | $__________ |

Part E (Statewide Expenditures)
| EXPENDITURES | UNITS | PEOPLE SERVED
INFORMATION | $__________ | __________ | __________
ASSISTANCE | $__________ | __________ | __________
COUNSELING SUPPORT GROUPS TRAINING | $__________ | __________ | __________
RESPITE | $__________ | __________ | __________
SUPPLEMENTAL SERVICES | $__________ | __________ | __________
TOTAL | $__________

[FR Doc. 01-2425 Filed 1-26-01; 8:45 am]

BILLING CODE 4154-01-U